DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://ofac.treasury.gov).

Notice of OFAC Actions

On June 6, 2023, OFAC determined that the property and interests in property subject to U.S. jurisdiction of the following persons are blocked under the relevant sanctions authority listed below.

Individuals

1. GUERRERO COVARRUBIAS, Alonso (a.k.a. GUERRERO COVARRUBIAS, Adrian Alonso; a.k.a. “EL OCHO”), Mexico; DOB 10 Dec 1990; POB Michoacan de Ocampo, Mexico; nationality Mexico; Gender Male; C.U.R.P. GUCA901210HMNRVL04 (Mexico) (individual) [ILLICIT-DRUGS-EO14059].

Designated pursuant to section 1(b)(iii) of Executive Order 14059 of December 15, 2021, “Imposing Sanctions on Foreign Persons Involved in the Global Illicit Drug Trade,” 86 FR 71549 (December 17, 2021) (E.O. 14059) for being owned, controlled, or directed by, or having acted or purported to act for or on behalf of, directly or indirectly, Cartel de Jalisco Nuevo Generacion (CJNG), a person sanctioned pursuant to E.O. 14059.

2. GUERRERO COVARRUBIAS, Javier, Mexico; DOB 14 Feb 1988; POB Michoacan de Ocampo, Mexico; nationality Mexico; Gender Male; C.U.R.P. GUCJ880214HMNRVV02 (Mexico) (individual) [ILLICIT-DRUGS-EO14059].

Designated pursuant to section 1(b)(iii) of E.O. 14059 for being owned, controlled, or directed by, or having acted or purported to act for or on behalf of, directly or indirectly, CJNG, a person sanctioned pursuant to E.O. 14059.

3. RODRIGUEZ AGUIRRE, Mary Cruz, Calle Paseo de los Artistas 1196, Colonia Colinas de la Normal, Guadalajara, Jalisco, Mexico; DOB 03 May 1974; POB Veracruz, Mexico; nationality Mexico; Gender Female; C.U.R.P. ROAM740503MVZDGR00 (Mexico) (individual) [ILLICIT-DRUGS-EO14059].

Designated pursuant to section 1(b)(i)(B) of E.O. 14059 for having provided, or attempting to provide, financial, material, or technological support for, or goods or services in support of, CJNG, a person sanctioned pursuant to E.O. 14059.

Entity

1. NACER AGENCIA PANAMERICANA DE DIVISAS Y CENTRO CAMBIARIO, S.A. DE C.V., Avenida Naciones Unidas 5428 Int. 2, Col. Jardines Universidad, Zapopan, Jalisco 45110, Mexico; Organization Type: Other financial service activities, except insurance and pension funding activities, n.e.c.; R.F.C. NAP1110251B4 (Mexico) [ILLICIT-DRUGS-EO14059].

Designated pursuant to section 1(b)(iii) of E.O. 14059 for being owned, controlled, or directed by, or having acted or purported to act for or on behalf of, directly or indirectly, Mary Cruz RODRIGUEZ AGUIRRE, a person sanctioned pursuant to E.O. 14059.

Dated: June 7, 2023.
Andrea M. Gacki,
Director, Office of Foreign Assets Control, U.S. Department of the Treasury.

[FR Doc. 2023-12571 Filed 6-12-23; 8:45 am]

BILLING CODE 4810-AL-P